DEPARTMENT OF LABOR

Employment and Training Administration

[TA-W-62,808]

Brunswick Bowling & Billiards Corporation, Muskegon, MI; Notice of Termination of Investigation

Pursuant to section 221 of the Trade Act of 1974, as amended, an investigation was initiated on February 7, 2008 in response to a petition filed by a state agency representative on behalf of workers at Brunswick Bowling & Billiards Corporation, Muskegon, Michigan.

The petitioner has requested that the petition be withdrawn. Consequently, the investigation has been terminated.

Signed at Washington, DC, this 5th day of March, 2008.
Linda G. Poole,
Certifying Officer, Division of Trade Adjustment Assistance.

[FR Doc. E8-4670 Filed 3-10-08; 8:45 am]

BILLING CODE 4510-FN-P